INTERNATIONAL TRADE COMMISSION

[Investigation No. 337-TA-998]

Certain Hybrid Electric Vehicles and Components Thereof; Termination of Investigation on the Basis of Settlement

AGENCY: U.S. International Trade Commission.

ACTION: Notice.

SUMMARY: Notice is hereby given that the U.S. International Trade Commission has determined not to review the presiding administrative law judge's (“ALJ”) initial determination (“ID”) (Order No. 15), which terminated the investigation on the basis of settlement.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission TDD terminal on (202) 205-1810.

SUPPLEMENTARY INFORMATION: The Commission instituted this investigation on May 23, 2016, based on an amended complaint filed by Paice LLC and Abell Foundation, Inc. both of Baltimore, Maryland (collectively, “Paice”). 81 FR 32343 (May 23, 2016). The amended complaint alleged violations of section 337 of the Tariff Act of 1930, as amended (19 U.S.C. 1337), in the importation into the United States, the sale for importation, or the sale within the United States after importation of certain hybrid electric vehicles and components thereof by reason of the infringement of certain claims of U.S. Patent No. 7,104,347; U.S. Patent No. 7,237,634; and U.S. Patent No. 8,214,097. The notice of investigation named as respondents Volkswagen AG of Wolfsburg, Germany; Volkswagen Group of America, Inc. of Herndon, Virginia; Dr. Ing. H.C. F. Porsche AG of Porscheplatz, Germany; Porsche Cars North America, Inc. of Atlanta, Georgia; Audi AG of Ingolstadt, Germany; and Audi of America, of Herndon, Virginia (collectively, “Volkswagen”). The Office of Unfair Import Investigations was not named as a party.

On December 20, 2016, Paice and Volkswagen filed a joint motion to terminate the investigation in view of a settlement agreement between the parties. On December 23, 2016, they filed an amended joint motion to include further information.

On January 3, 2017, the presiding ALJ granted the motion as the subject ID. The ALJ found that the amended motion complies with Commission Rules, and that granting the motion is not contrary to the public interest. Id. at 2-3; see 19 CFR 210.21(b), 210.50(b)(2).

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: February 1, 2017
Lisa R. Barton,
Secretary to the Commission.

[FR Doc. 2017-02446 Filed 2-6-17; 8:45 am]

BILLING CODE 7020-02-P